DEPARTMENT OF COMMERCE

United States Patent and Trademark Office

Submission for OMB Review; Comment Request; Practitioner Conduct and Discipline

The United States Patent and Trademark Office (USPTO) will submit to the Office of Management and Budget (OMB) for clearance the following proposal for collection of information under the provisions of the Paperwork Reduction Act.

Agency: United States Patent and Trademark Office, Commerce.

Title: Practitioner Conduct and Discipline.

OMB Control Number: 0651-0017.

Form Number(s): ;No forms associated.

Type of Request: Regular.

Number of Respondents: 11,145.

Average Hours Per Response: The USPTO estimates that it will take the public between 1 and 20 hours, depending upon the complexity of the situation, to gather the necessary information, prepare, and submit the requirements in this collection.

Burden Hours: 12,465 hours annually.

Cost Burden: $1,630.80.

Needs and Uses: This information is required by 35 U.S.C. 2, 32, and 33 and administered by the USPTO through 37 CFR 11.101-11.901 and 37 CFR 11.19-11.61. The information is used by the Director of the Office of Enrollment and Discipline (OED) to investigate and, where appropriate, prosecute practitioners for violations of the USPTO Rules of Professional Conduct. Registered practitioners are required to maintain proper documentation so that they can fully cooperate with an investigation in the event of a report of an alleged violation. There are no forms associated with this collection of information.

Affected Public: Individuals or households; businesses or other for-profits; and not-for-profit institutions.

Frequency: On occasion.

Respondent's Obligation: Required to Obtain or Retain Benefits.

OMB Desk Officer: Nicholas A. Fraser, email: Nicholas_A._Fraser@omb.eop.gov. Once submitted, the request will be publicly available in electronic format through reginfo.gov. Follow the instructions to view Department of Commerce collections currently under review by OMB.

Further information may be requested by:

• Email: InformationCollection@uspto.gov. Include “0651-0017 copy request” in the subject line of the message.

• Mail: Marcie Lovett, Chief, Records and Information Governance Branch, Office of the Chief Administrative Officer, United States Patent and Trademark Office, P.O. Box 1450, Alexandria, VA 22313-1450.

Written comments and recommendations for the proposed information collection should be sent on or before March 28, 2019 to Nicholas A. Fraser, OMB Desk Officer, via email to Nicholas_A._Fraser@omb.eop.gov, or by fax to 202-395-5167, marked to the attention of Nicholas A. Fraser.

Marcie Lovett,
Chief, Records and Information Governance Branch, Office of the Chief Administrative Officer, USPTO.

[FR Doc. 2019-03223 Filed 2-25-19; 8:45 am]

BILLING CODE 3510-16-P